INTERNATIONAL TRADE COMMISSION

[Investigation No. 332-525]

Remanufactured Goods: An Overview of the U.S. and Global Industries, Markets, and Trade; Submission of Questionnaire for OMB Review

AGENCY: United States International Trade Commission.

ACTION: In accordance with the provisions of the Paperwork Reduction Act of 1995 (44 U.S.C. Chapter 35), the U.S. International Trade Commission (Commission) has submitted a request for approval of a questionnaire to the Office of Management and Budget for review.

Purpose of Information Collection: The form is for use by the Commission in connection with Investigation No. 332-525, Remanufactured Goods: An Overview of the U.S. and Global Industries, Markets, and Trade, instituted under the authority of section 332(g) of the Tariff Act of 1930 (19 U.S.C. 1332(g)). This investigation was requested by the United States Trade Representative (USTR). The Commission expects to deliver the results of its investigation to the USTR by October 28, 2012.

SUMMARY of Proposal:

(1) Number of forms submitted: 1.

(2) Title of form: Manufactured Goods Questionnaire.

(3) Type of request: New.

(4) Frequency of use: Industry questionnaire, single data gathering, scheduled for 2012.

(5) Description of respondents: U.S. firms in 14 manufacturing sectors.

(6) Estimated number of respondents: 7,000.

(7) Estimated total number of hours to complete the form per respondent: 20 hours.

(8) Information obtained from the form that qualifies as confidential business information will be so treated by the Commission and not disclosed in a manner that would reveal the individual operations of a firm.

Additional Information or Comment: Copies of the forms and supporting documents may be obtained from project leader Alan Treat (alan.treat@usitc.gov or (202) 205-3426) or deputy project leader Jeremy Wise (jeremy.wise@usitc.gov or (202) 205-3190). Comments about the proposal should be directed to the Office of Management and Budget, Office of Information and Regulatory Affairs, Room 10102 (Docket Library), Washington, DC 20503, Attention: Docket Librarian. All comments should be specific, indicating which part of the questionnaire is objectionable, describing the concern in detail, and including specific suggested revision or language changes. Copies of any comments should be provided to Andrew Martin, Chief Information Officer, U.S. International Trade Commission, 500 E Street SW., Washington, DC 20436, who is the Commission's designated Senior Official under the Paperwork Reduction Act.

Persons with mobility impairments who will need special assistance in gaining access to the Commission should contact the Secretary at (202) 205-2000. Hearing impaired individuals are advised that information on this matter can be obtained by contacting our TTD terminal (telephone no. (202) 205-1810). Also, general information about the Commission can be obtained from its Internet site (http://www.usitc.gov).

By order of the Commission.
Issued: December 22, 2011.
James R. Holbein,
Secretary to the Commission.

[FR Doc. 2011-33395 Filed 12-28-11; 8:45 am]

BILLING CODE 7020-02-P